ENVIRONMENTAL PROTECTION AGENCY

[FRL-8529-6]

Agency Information Collection Activities OMB Responses

AGENCY: Environmental Protection Agency (EPA).

ACTION: Notice.

SUMMARY: This document announces the Office of Management and Budget's (OMB) responses to Agency Clearance requests, in compliance with the Paperwork Reduction Act (44 U.S.C. 3501 et seq.). An agency may not conduct or sponsor, and a person is not required to respond to, a collection of information unless it displays a currently valid OMB control number. The OMB control numbers for EPA's regulations are listed in 40 CFR part 9 and 48 CFR chapter 15.

FOR FURTHER INFORMATION CONTACT: Rick Westlund (202) 566-1682, or e-mail at westlund.rick@epa.gov and please refer to the appropriate EPA Information Collection Request (ICR) Number.

SUPPLEMENTARY INFORMATION:

OMB Responses to Agency Clearance Requests

OMB Approvals

EPA ICR Number 0318.11; Clean Watersheds Needs Survey (Renewal); was approved 01/17/2008; OMB Number 2040-0050; expires 01/31/2011.

EPA ICR Number 2250.01; Information Collection in Support of EPA's Stewardship Program for Nanoscale Materials; was approved 01/18/2008; OMB Number 2070-0170; expires 01/31/2011.

EPA ICR Number 0143.10; Recordkeeping Requirements for Producers of Pesticides under section 8 of the Federal Insecticide, Fungicide, and Rodenticide Act (FIFRA) (Renewal); in 40 CFR part 169; was approved 01/24/2008; OMB Number 2070-0028; expires 01/31/2011.

EPA ICR Number 1808.05; Environmental Impact Assessment of Nongovernmental Activities in Antarctica (Renewal); in 40 CFR part 8; was approved 01/28/2008; OMB Number 2020-0007; expires 01/31/2011.

EPA ICR Number 1049.11; Notification of Episodic Releases of Oil and Hazardous Substances (Renewal); in 40 CFR part 110, 40 CFR part 117, and 40 CFR part 302; was approved 01/28/2008; OMB Number 2050-0046; expires 01/31/2011.

EPA ICR Number 1198.08; Chemical-Specific Rules, TSCA section 8(a) (Renewal); in 40 CFR part 704; was approved 01/28/2008; OMB Number 2070-0067; expires 01/31/2011.

EPA ICR Number 1564.07; NSPS for Small Industrial-Commercial-Institutional Steam Generating Units (Renewal); in 40 CFR part 60, subpart Dc; was approved 01/28/2008; OMB Number 2060-0202; expires 01/31/2011.

EPA ICR Number 1246.10; Reporting and Recordkeeping for Asbestos Abatement Worker Protection (Renewal); in 40 CFR part 763, subpart G; was approved 01/28/2008; OMB Number 2070-0072; expires 01/31/2011.

EPA ICR Number 0193.09; NESHAP for Beryllium (Renewal); in 40 CFR part 61, subpart C; was approved 01/28/2008; OMB Number 2060-0092; expires 01/31/2011.

EPA ICR Number 2226.03; Revisions to Standards of Performance for New Stationary Sources, and NESHAP for Source Categories (Direct Final Rule for Revisions to Consolidated Federal Air Rule); in 40 CFR part 65; was approved 01/29/2008; OMB Number 2060-0599; expires 01/31/2011.

EPA ICR Number 1053.09; NSPS for Electric Utility Steam Generating Units (Renewal); in 40 CFR part 60, subpart Da; was approved 01/30/2008; OMB Number 2060-0023; expires 01/31/2011.

EPA ICR Number 2047.02; Participation by Disadvantaged Business Enterprises in Procurement under Environmental Protection Agency (EPA) Financial Assistance Agreements (Final Rule); was pre-approved 01/30/2008; OMB Number 2090-0030; expires 01/31/2011.

EPA ICR Number 1904.03; The Sun Wise School Program (Renewal); was approved 02/06/2008; OMB Number 2060-0439; expires 02/28/2011.

EPA ICR Number 2087.03; Concentrated Aquatic Animal Production Effluent Guidelines (Renewal); in 40 CFR part 451, sections 3, 11(d) and 21(g); was approved 02/06/2008; OMB Number 2040-0258; expires 02/28/2011.

EPA ICR Number 1427.08; NPDES Compliance Assessment/Certification Information (Renewal); in 40 CFR 122.41, 40 CFR 122.44, 40 CFR 122.45, 40 CFR 122.47, 40 CFR 123.25, 40 CFR 155.41, 40 CFR 413.03, 40 CFR 423.12, 40 CFR 423.13, 40 CFR 423.15, 40 CFR 430, 40 CFR 431.14, 40 CFR 431.15, 40 CFR 431.16, 40 CFR 431.17, 40 CFR 433.12, 40 CFR 434, 40 CFR 435, 40 CFR 439, 40 CFR 455.42, 40 CFR 455.43, 40 CFR 455.44, 40 CFR 455.45, 40 CFR 465.03, 40 CFR 466.03, 40 CFR 467.03, 40 CFR 469.13, 40 CFR 501.15; was approved 02/06/2008; OMB Number 2040-0110; expires 02/28/2011.

EPA ICR Number 1959.03; National Listing of Fish Advisories (Renewal); was approved 02/06/2008; OMB Number 2040-0226; expires 02/28/2011.

EPA ICR Number 1287.09; Questionnaire for Nominees for the Annual National Clean Water Excellence Awards Program (Renewal); in 40 CFR part 105; was approved 02/06/2008; OMB Number 2040-0101; expires 02/28/2011.

EPA ICR Number 2103.03; Title IV of the Public Health Security and Bioterrorism Preparedness and Response Act of 2002: Drinking Water Security and Safety (Renewal); was approved 02/06/2008; OMB Number 2040-0253; expires 02/28/2011.

Short Term Extension

EPA ICR Number 1230.07; Prevention of Significant Deterioration Non-Attainment Area new Sources Review; on 01/31/2008; was granted an extension of the expiration date to 04/30/2008.

Withdrawn

EPA ICR Number 2214.01; Chlorine and Chlorinated Hydrocarbon Manufacturing Segment Questionnaire was withdrawn by the Agency on 01/17/2008.

Dated: February 7, 2008.
Sara Hisel-McCoy,
Director, Collection Strategies Division.

[FR Doc. E8-2780 Filed 2-13-08; 8:45 am]

BILLING CODE 6560-50-P